DEPARTMENT OF LABOR

Employment and Training Administration

Comment Request for Information Collection for extension without revisions.

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)] (PRA). The PRA helps ensure that respondents can provide requested data in the desired format with minimal reporting burden (time and financial resources), collection instruments are clearly understood, and the impact of collection requirements on respondents can be properly assessed.

Currently, ETA is soliciting comments concerning the collection of data to support the Enhanced Transitional Jobs Demonstration project (ETJD).

DATES: Submit written comments to the office listed in the addresses section below on or before August 25, 2014.

ADDRESSES: Send written comments to Jenn Smith, Office of Workforce Investment, N-4511, Employment and Training Administration, U.S. Department of Labor, 200 Constitution Avenue NW., Washington, DC 20210. Telephone number: 202-693-3597 (this is not a toll-free number). Individuals with hearing or speech impairments may access the telephone number above via TTY by calling the toll-free Federal Information Relay Service at 1-877-889-5627 (TTY/TDD). Fax: 202-693-3113. Email: smith.jenn@dol.gov. To obtain a copy of the proposed information collection request (ICR), please contact the person listed above.

SUPPLEMENTARY INFORMATION:

I. Background

In applying for the Enhanced Transitional Jobs Demonstration grants, grantees agreed to submit participant data and quarterly aggregate reports for individuals who receive services through ETJD programs and their partnerships with American Job Centers, local workforce investment boards, employment providers, the criminal justice system, and child support enforcement agencies, among others. The reports include aggregate data on demographic characteristics, types of services received, placements, outcomes, and follow-up status. Specifically, they summarize data on participants who received subsidized employment and training, placement services, child support assistance and family reunification services, mentoring, and other services essential to successful unsubsidized employment of ex-offender and non-custodial parent participants through ETJD programs.

This requests an extension (without changes) for an existing information collection to meet the reporting and recordkeeping requirements of the Enhanced Transitional Jobs Demonstration through an ETA-provided, Web-based Management Information System (MIS). In addition to reporting participant information and performance-related outcomes, ETJD grantees will be part of an extensive random assignment evaluation to test the effectiveness of a transitional jobs “bump-up” model that provides an enhanced approach to the traditional transitional jobs model, in order to demonstrate the effectiveness of transitional jobs in serving specific hard-to-employ populations.

This information collection maintains a reporting and record-keeping system for a minimum level of information collection that is necessary to hold ETJD grantees appropriately accountable for the Federal funds they receive, including common performance measures, and to allow the Department to fulfill its oversight and management responsibilities.

II. Review Focus

The Department is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: Extension without revisions.

Title: Enhanced Transitional Jobs Demonstration Reporting System.

OMB Number: 1205-0485.

Affected Public: Local workforce investment boards, non-profits, and faith-based organization grantees.

Estimated Total Annual Respondents: 7 grantees.

Estimated Total Annual Responses: 21,096.

Estimated Total Annual Burden Hours: 8,340.

Total Estimated Annual Other Costs Burden: $0.

We will summarize and include in the request for OMB approval of the ICR, the comments received in response to this comment request; they will also become a matter of public record.

Portia Wu,
Assistant Secretary for Employment and Training, Labor.

[FR Doc. 2014-14828 Filed 6-24-14; 8:45 am]

BILLING CODE 4510-FT-P